DEPARTMENT OF THE TREASURY

Office of Foreign Assets Control

Notice of OFAC Sanctions Action

AGENCY: Office of Foreign Assets Control, Treasury.

ACTION: Notice.

SUMMARY: The Department of the Treasury's Office of Foreign Assets Control (OFAC) is updating the Federal Register notice for the entry of one person on OFAC's Specially Designated Nationals and Blocked Persons List based on OFAC's determination that one or more applicable legal criteria were satisfied. All property and interests in property subject to U.S. jurisdiction of this are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On August 5, 2019, OFAC determined that the property and interests in property subject to U.S. jurisdiction of the following person are blocked under the relevant sanctions authorities listed below. OFAC is updating the Federal Register notice for the entry of one person on OFAC's Specially Designated National and Blocked Persons List (SDN List) in order to identify the bases for designation for the individual listed below.

Individual

1. SERHAN, Fadi Hussein (a.k.a. SARHAN, Fadi Husayn; a.k.a. SIRHAN, Fadi), Own Building, Kanisat Marmkhael, Saliba Street, Corniche, Al-Mazraa, Beirut, Lebanon; Jaafar Building, Mazraa Street, Beirut, Lebanon; Jaafar Building, Mseytbi Street, Beirut, Lebanon; Jaafar Building, Salim Slam Street, Beirut, Lebanon; Jishi Building, Salim Slam Street, Beirut, Lebanon; Own Building, Main Street, Kfar Kila, Lebanon; Mazraa, Salim Slam St., Borj Al Salam Bldg., Beirut, Lebanon; DOB 01 Apr 1961; POB Kafr Kila, Lebanon; alt. POB Kfarkela, Lebanon; nationality Lebanon; Gender Male; Passport RL 0962973 (Lebanon) expires 08 Feb 2012; alt. Passport RL 3203273 expires 20 May 2020; VisaNumberID 87810564 (United States); alt. VisaNumberID F0962973 (individual) [SDGT] [HIFPAA].

Designated pursuant to section 1(d)(ii) of Executive Order 13224 of September 23, 2001, “Blocking Property and Prohibiting Transactions With Persons Who Commit, Threaten to Commit, or Support Terrorism” (E.O. 13224) for assisting in, sponsoring, or providing financial, material, or technological support for, or financial or other services to or in support of, AL MANAR TV, an entity whose property and interests in property are blocked pursuant to E.O. 13224.

Also designated pursuant to section 101(a)(2) of the Hizballah International Financing Prevention Act of 2015, as amended by section 101 of the Hizballah International Financing Prevention Amendments Act of 2018, for knowingly providing significant financial, material, or technological support for or to AL MANAR TV.

Dated: August 5, 2019.
Andrea Gacki,
Director, Office of Foreign Assets Control.

[FR Doc. 2019-17049 Filed 8-8-19; 8:45 am]

BILLING CODE 4810-AL-P